DEPARTMENT OF STATE

[Public Notice 5923]

Notice of Receipt of Application for a Presidential Permit To Construct a New International Rail Bridge Between Webb County, TX and Colombia, Mexico

AGENCY: Department of State.

ACTION: Notice.

SUMMARY: Notice is hereby given that on August 15, 2007 the Department of State received an application for a Presidential Permit authorizing the construction, operation and maintenance of a new international rail bridge crossing between Webb County, Texas and Colombia, State of Nuevo Leon, Mexico, known hereafter as the “Colombia Rail Bridge.” This application has been filed by the Webb County Rural Transportation District located in Laredo, Texas. This construction project, which would be carried out in partnership with a number of local, state, federal and bi-national entities, would be located 31 river miles upstream or northwest of the existing Laredo International Rail Bridge that goes through downtown Nuevo Laredo and Laredo. The Department of State's jurisdiction with respect to this application is based upon Executive Order 11423, dated August 16, 1968, as amended by Executive Order 12847, dated May 17, 1993, Executive Order 13284, dated January 23, 2003 and Executive Order 13337, dated April 30, 2004. As provided in E.O. 11423, the Department is circulating this application to concerned agencies for comment.

DATES: Interested parties are invited to submit written comments relative to this application on or before November 5, 2007 to Daniel D. Darrach, Coordinator, U.S.-Mexico Border Affairs, WHA/MEX, HST Room 4258, Department of State, 2201 C St., NW., Washington, DC 20520.

FOR FURTHER INFORMATION CONTACT: Daniel D. Darrach, Coordinator, U.S.-Mexico Border Affairs, WHA/MEX, HST Room 4258, Department of State, 2201 C St., NW., Washington, DC 20520. Telephone: (202) 647-8529, fax: (202) 647-5752.

SUPPLEMENTARY INFORMATION: The application and related documents that are a part of the record to be considered by the Department of State in connection with this application are available for review in the Office of Mexican Affairs, Border Affairs Unit, Department of State, during normal business hours throughout the comment period. Any questions related to this notice may be addressed to Mr. Darrach using the contact information above.

Dated: August 28, 2007.
Daniel D. Darrach,
Coordinator, U.S.-Mexico Border Affairs, Department of State.

[FR Doc. E7-17435 Filed 8-31-07; 8:45 am]

BILLING CODE 4710-29-P